DEPARTMENT OF COMMERCE

International Trade Administration

[A-580-897]

Large Diameter Welded Pipe From the Republic of Korea: Preliminary Results of Antidumping Duty Administrative Review; 2018-2020

AGENCY: Enforcement and Compliance, International Trade Administration, Department of Commerce.

SUMMARY: The Department of Commerce (Commerce) preliminarily determines that sales of large diameter welded pipe (welded pipe) from the Republic of Korea (Korea) were not made at less than normal value during the period of review (POR) August 27, 2018, through April 30, 2020. We invite interested parties to comment on these preliminary results.

DATES: Applicable July 30, 2021.

FOR FURTHER INFORMATION CONTACT: Kate Johnson or Sergio Balbontin, AD/CVD Operations, Office VIII, Enforcement and Compliance, International Trade Administration, U.S. Department of Commerce, 1401 Constitution Avenue NW, Washington, DC 20230; telephone: (202) 482-4929 or (202) 482-6478, respectively.

SUPPLEMENTARY INFORMATION:

Background

On May 2, 2019, Commerce published the antidumping duty order on welded pipe from Korea.¹ On July 10, 2020, in accordance with 19 CFR 351.221(c)(1)(i), Commerce initiated an administrative review of the Order, covering twenty companies.²

¹ See Large Diameter Welded Pipe from the Republic of Korea: Amended Final Affirmative Antidumping Determination and Antidumping Duty Order, 84 FR 18767 (May 2, 2019) (Order).

² See Initiation of Antidumping and Countervailing Duty Administrative Reviews, 85 FR 41540 (July 10, 2020).

On July 21, 2020, Commerce tolled all preliminary and final results deadlines in administrative reviews by 60 days.³

³ See Memorandum, “Tolling of Deadlines for Antidumping and Countervailing Duty Administrative Reviews,” dated July 21, 2020.

Pursuant to section 751(a)(3)(A) of the Tariff Act of 1930, as amended (the Act), on March 10, 2021, Commerce determined that it was not practicable to complete the preliminary results of this review within 245 days and extended the deadline for the preliminary results of this review by 120 days, until July 30, 2021.⁴

⁴ See Memorandum, “Extension of Deadline for Preliminary Results of 2018-2020 Antidumping Duty Administrative Review,” dated March 10, 2021.

For a detailed description of the events that followed the initiation of this review, see the Preliminary Decision Memorandum.⁵

⁵ See Memorandum, “Large Diameter Welded Pipe from the Republic of Korea: Decision Memorandum for the Preliminary Results of Antidumping Duty Administrative Review; 2018-2020,” dated concurrently with, and hereby adopted by, this notice (Preliminary Decision Memorandum).

Scope of the Order

The product covered by this Order is welded pipe from Korea. For a full description of the scope, see the Preliminary Decision Memorandum.

Methodology

Commerce is conducting this review in accordance with section 751(a) of the Act. For a full description of the methodology underlying these preliminary results, see the Preliminary Decision Memorandum. A list of topics included in the Preliminary Decision Memorandum is included as an appendix to this notice.

The Preliminary Decision Memorandum is a public document and is available via Enforcement and Compliance's Antidumping and Countervailing Duty Centralized Electronic Service System (ACCESS). ACCESS is available to registered users at http://access.trade.gov. In addition, a complete version of the Preliminary Decision Memorandum is available at http://enforcement.trade.gov/frn/.

Rate for Non-Selected Companies

The statute and Commerce's regulations do not address the establishment of a weighted-average dumping margin to be determined for companies not selected for individual examination when Commerce limits its examination in an administrative review pursuant to section 777A(c)(2) of the Act. Generally, Commerce looks to section 735(c)(5) of the Act, which provides instructions for calculating the all-others rate in an investigation, for guidance when determining the weighted-average dumping margin for companies which were not selected for individual examination in an administrative review. Under section 735(c)(5)(A) of the Act, the all-others rate is normally “an amount equal to the weighted average of the estimated weighted average dumping margins established for exporters and producers individually investigated, excluding any zero and de minimis margins, and any margins determined entirely {on the basis of facts available}.”

In this review, we have preliminarily calculated a weighted-average dumping margin for each of the mandatory respondents, Hyundai RB Co., Ltd. (Hyundai RB) and Hyundai Steel Company (Hyundai Steel), that is zero percent. Where the rates for the individually examined companies are all zero, de minimis, or determined entirely using facts available, section 735(c)(5)(B) of the Act instructs that Commerce “may use any reasonable method to establish the estimated all-others rate for exporters and producers not individually investigated, including averaging the estimated weighted average dumping margins determined for the exporters and producers individually investigated.” One such reasonable method is to weight average the zero and de minimis rates, and the rates determined entirely pursuant to facts available. In fact, the SAA states that this is the “expected” method in such circumstances.⁶ Accordingly, we have determined the weighted-average dumping margin for the eighteen companies that were not selected for individual examination based on the weighted average of the weighted-average dumping margins calculated for Hyundai RB and Hyundai Steel, i.e., zero percent, consistent with section 735(c)(5)(B) of the Act. These are the only rates determined in this review for individually examined companies, and, thus, are applied to the eighteen firms not selected for individual examination.

⁶ See Statement of Administrative Action Accompanying the Uruguay Round Agreements Act, H.R. Doc. 103-316, vol. 1 (1994) (SAA) at 873.

Preliminary Results of the Review

We preliminarily determine that the following weighted-average dumping margins exist for the period of August 27, 2018, through April 30, 2020:

Exporter and/or producer | Weighted- average dumping margin (percent)
Hyundai RB Co., Ltd | 0.00
Hyundai Steel Company | 0.00
Non-Examined Companies ⁷ | 0.00

Disclosure and Public Comment

⁷ See Appendix II.

We intend to disclose the calculations performed for these preliminary results to parties within five days after the date of public announcement of the preliminary results.⁸

⁸ See 19 CFR 351.224(b).

Pursuant to 19 CFR 351.309(c), interested parties may submit case briefs no later than 30 days after the date of publication of this notice.⁹ Rebuttal briefs, limited to issues raised in the case briefs, may be filed not later than seven days after the date for filing case briefs.¹⁰ Parties who submit case briefs or rebuttal briefs in this proceeding are encouraged to submit with each argument: (1) A statement of the issue; (2) a brief summary of the argument; and (3) a table of authorities.¹¹ Executive summaries should be limited to five pages total, including footnotes.

⁹ See 19 CFR 351.309(c)(1)(ii).

¹⁰ See 19 CFR 351.309(d)(1) and (2); see also Temporary Rule Modifying AD/CVD Service Requirements Due to COVID-19, 85 FR 17006 (March 26, 2020); and Temporary Rule Modifying AD/CVD Service Requirements Due to COVID-19; Extension of Effective Period, 85 FR 41363 (July 10, 2020).

¹¹ See 19 CFR 351.309(c)(2) and (d)(2).

Pursuant to 19 CFR 351.310(c), interested parties who wish to request a hearing must submit a written request to the Assistant Secretary for Enforcement and Compliance, filed electronically via ACCESS. Requests should contain: (1) The party's name, address, and telephone number; (2) the number of participants; and (3) a list of issues to be discussed. Issues raised in the hearing will be limited to those raised in the respective case and rebuttal briefs. If a request for a hearing is made, Commerce intends to hold the hearing at a date and time to be determined. Parties should confirm by telephone the date, time, and location of the hearing two days before the scheduled date.

All submissions to Commerce must be filed using ACCESS ¹² and must be served on interested parties.¹³ An electronically filed document must be received successfully in its entirety by Commerce's electronic records system, ACCESS, by 5:00 p.m. Eastern Time on the date that the document is due. Note that Commerce has temporarily modified certain of its requirements for serving documents containing business proprietary information, until further notice.¹⁴

¹² See 19 CFR 351.303.

¹³ See 19 CFR 351.303(f).

¹⁴ See Temporary Rule Modifying AD/CVD Service Requirements Due to COVID-19; Extension of Effective Period, 85 FR 41363 (July 10, 2020).

Assessment Rates

Pursuant to section 751(a)(2)(A) of the Act and 19 CFR 351.212(b)(1), Commerce will determine, and U.S. Customs and Border Protection (CBP) shall assess, antidumping duties on all appropriate entries of subject merchandise in accordance with the final results of this review. Commerce intends to issue assessment instructions to CBP no earlier than 35 days after the date of publication of the final results of this administrative review in the Federal Register. If a timely summons is filed at the U.S. Court of International Trade, the assessment instructions will direct CBP not to liquidate relevant entries until the time for parties to file a request for a statutory injunction has expired (i.e., within 90 days of publication).

For an individually examined respondent whose weighted-average dumping margin is not de minimis (i.e., less than 0.50 percent), upon completion of the final results, Commerce intends to calculate importer-specific assessment rates on the basis of the ratio of the total amount of dumping calculated for each importer's examined sales to the total entered value of those sales. Where we do not have entered values for all U.S. sales to a particular importer, we will calculate an importer-specific, per-unit assessment rate on the basis of the ratio of the total amount of dumping calculated for the importer's examined sales to the total quantity of those sales.¹⁵ To determine whether an importer-specific, per-unit assessment rate is de minimis, in accordance with 19 CFR 351.106(c)(2), we also will calculate an importer-specific ad valorem ratio based on estimated entered values. Where either a respondent's weighted-average dumping margin is zero or de minimis, or an importer-specific ad valorem assessment rate is zero or de minimis, we will instruct CBP to liquidate appropriate entries without regard to antidumping duties.¹⁶ For entries of subject merchandise during the POR produced by each individually examined respondent for which it did not know its merchandise was destined for the United States, we will instruct CBP to liquidate such entries at the all-others rate if there is no rate for the intermediate company(ies) involved in the transaction.¹⁷

¹⁵ See 19 CFR 351.212(b)(1).

¹⁶ See 19 CFR 352.106(c)(2); see also Antidumping Proceeding: Calculation of the Weighted-Average Dumping Margin and Assessment Rate in Certain Antidumping Proceedings; Final Modification, 77 FR 8101, 8103 (February 14, 2012).

¹⁷ See Antidumping and Countervailing Duty Proceedings: Assessment of Antidumping Duties, 68 FR 23954 (May 6, 2003).

For the companies which were not selected for individual examination, we intend to direct CBP to assess antidumping duties at a rate equal to their weighted-average dumping margin determined in the final results.

The final results of this review shall be the basis for the assessment of antidumping duties on entries of merchandise covered by the final results of this review and for future cash deposits of estimated duties, where applicable.¹⁸

¹⁸ See section 751(a)(2)(C) of the Act.

Cash Deposit Requirements

The following cash deposit requirements will be effective for all shipments of the subject merchandise entered, or withdrawn from warehouse, for consumption on or after the publication date of the final results of this administrative review, as provided by section 751(a)(2)(C) of the Act: (1) The cash deposit rate for the companies listed above will be equal to the weighted-average dumping margin established in the final results of this review, except if the rate is less than 0.50 percent and, therefore, de minimis within the meaning of 19 CFR 351.106(c)(1), in which case the cash deposit rate will be zero; (2) for previously reviewed or investigated companies not covered in this review, the cash deposit rate will continue to be the company-specific rate published for the most recently-completed segment of this proceeding in which the company was reviewed; (3) if the exporter is not a firm covered in this review, a prior completed review, or the less-than-fair value (LTFV) investigation, but the producer is, then the cash deposit rate will be the company-specific rate established for the most recently-completed segment of this proceeding for the producer of subject merchandise; and (4) the cash deposit rate for all other producers and exporters will continue to be 7.08 percent, the all-others rate established in the LTFV investigation.¹⁹

¹⁹ See Order.

These cash deposit requirements, when imposed, shall remain in effect until further notice.

Final Results of Review

Unless otherwise extended, Commerce intends to issue the final results of this administrative review, including the results of our analysis of issues raised by the parties in the written comments, within 120 days of publication of these preliminary results in the Federal Register, pursuant to section 751(a)(3)(A) of the Act and 19 CFR 351.213(h)(1).

Notification to Importers

This notice serves as a preliminary reminder to importers of their responsibility under 19 CFR 351.402(f)(2) to file a certificate regarding the reimbursement of antidumping duties prior to liquidation of the relevant entries during this POR. Failure to comply with this requirement could result in Commerce's presumption that reimbursement of antidumping duties occurred and the subsequent assessment of doubled antidumping duties.

Notification to Interested Parties

These preliminary results are issued and published in accordance with sections 751(a)(1) and 777(i)(1) of the Act, and 19 CFR 351.221(b)(4).

Dated: July 26, 2021.
Christian Marsh,
Acting Assistant Secretary for Enforcement and Compliance.

Appendix I

List of Topics Discussed in the Preliminary Decision Memorandum

I. Summary

II. Background

III. Scope of the Order

IV. Discussion of the Methodology

V. Currency Conversion

VI. Recommendation

Appendix II

Review-Specific Average Rate Applicable to Companies Not Selected for Individual Review

1. AJU Besteel Co., Ltd.

2. Chang Won Bending Co., Ltd.

3. Daiduck Piping Co., Ltd.

4. Dong Yang Steel Pipe Co., Ltd.

5. Dongbu Incheon Steel Co., Ltd.

6. EEW KHPC Co., Ltd.

7. EEW Korea Co., Ltd.

8. Histeel Co., Ltd.

9. Husteel Co., Ltd.

10. Kiduck Industries Co., Ltd.

11. Kum Kang Kind. Co., Ltd.

12. Kumsoo Connecting Co., Ltd.

13. Nexteel Co., Ltd.

14. SeAH Steel Corporation

15. Seonghwa Industrial Co., Ltd.

16. SIN-E B&P Co., Ltd.

17. Steel Flower Co., Ltd.

18. WELTECH Co., Ltd.

[FR Doc. 2021-16325 Filed 7-29-21; 8:45 am]

BILLING CODE 3510-DS-P